DEPARTMENT OF COMMERCE

National Oceanic and Atmospheric Administration

RIN 0648-XC191

North Pacific Fishery Management Council; Public Meetings

AGENCY: National Marine Fisheries Service (NMFS), National Oceanic and Atmospheric Administration (NOAA), Commerce.

ACTION: Notice of public meetings.

SUMMARY: The North Pacific Fishery Management Council's (Council) Observer Advisory Committee (OAC) will meet in Seattle, WA.

DATES: The meeting will be held September 17-18, 2012 from 8:30 a.m. to 4:30 p.m.

ADDRESSES: The meeting will be held at the Alaska Fishery Science Center, 7600 Sand Point Way NE., Building 4, Observer Training Room, Seattle, WA 98115.

Council address: North Pacific Fishery Management Council, 605 W. 4th Ave., Suite 306, Anchorage, AK 99501-2252.

FOR FURTHER INFORMATION CONTACT: Diana Evans, Council staff, telephone: (907) 271-2809.

SUPPLEMENTARY INFORMATION: The agenda items include: Council direction on OAC; Update on implementation of observer restructuring; Update on the development of the final rule; Getting the nuts and bolts in place for implementation; Planned outreach and education efforts; Registration system and brief demonstration: Draft 2013 observer deployment plan; Presentation of deployment plan; Discussion and recommendations on deployment plan; Electronic monitoring; Update on national white papers on electronic monitoring; Update on EM halibut fleet pilot project; Discuss development of EM as part of restructured program; Required elements for regulating EM; Public comment; Discussion and recommendations; Scheduling & other issues. The Agenda is subject to change, and the latest version will be posted at http://www.alaskafisheries.noaa.gov/npfmc/.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: August 24, 2012.
William D. Chappell,
Acting Deputy Director, Office of Sustainable Fisheries, National Marine Fisheries Service.

[FR Doc. 2012-21320 Filed 8-28-12; 8:45 am]

BILLING CODE 3510-22-P